DEPARTMENT OF JUSTICE

Notice of Lodging of Consent Decree Pursuant to the Clean Air Act, Clean Water Act and Resource Conservation and Recovery Act

In accordance with Departmental policy, 28 CFR 50.7, notice is hereby given that a proposed consent decree in United States v. University of Rhode Island, Civil No. 01165ML was lodged on April 5, 2001, with the United States District Court for District of Rhode Island.

The consent decree settles claims alleged in the complaint for civil penalties and injunctive relief against the University of Rhode Island (“URI”) under the Clean Air Act, Clean Water Act and the Resource Conservation and Recovery Act and regulations promulgated thereunder. The complaint sought injunctive relief and civil penalties against URI pursuant to section 113(b) of the Clean Air Act, 42 U.S.C. 7413(b); Section 311(b) of the Clean Water Act, 33 U.S.C. 1321(b); and Sections 3008(a) and (g) of the Resource Conservation and Recovery Act (“RCRA”), 42 U.S.C. 6928(a) and (g), for violations of the Clean Air Act, Clean Water Act, and RCRA and the regulations promulgated thereunder. The violations occurred at URI's campus located in Kingston, Rhode Island.

Pursuant to the consent decree, URI will pay a civil penalty of $194,560. URI certifies that as of the date of its signature of the consent decree, it is in compliance with the provisions of the Clean Water Act, Clean Air Act and the Resource Conservation and Recovery Act that it is alleged to have violated in the complaint. URI shall also undertake a comprehensive environmental audit of its Kingston campus and undertake two supplemental environmental projects (“SEPs”) with a total cost of $550,000. The SEPs include construction of a state of the art hazardous waste storage facility and upgrades to septic systems in the environmentally sensitive area of Wickford Village, Rhode Island.

The Department of Justice will receive, for a period of thirty (30) days from the date of this publication, comments relating to the proposed consent decree. Comments should be addressed to the Assistant Attorney General for the Environment and Natural Resource Division, Department of Justice, Washington, DC 20530, and should refer to United States v. University of Rhode Island, DOJ Ref. #90-7-1-928.

The proposed consent decree may be examined at the office of the United States Attorney, for the District of Rhode Island, Westminster Square Building, 10 Dorrance Street, Providence, Rhode Island 02903 (401) 528-5477 (916); and the Region I Office of the Environmental Protection Agency, One Congress Street, Boston, MA 02203 (617) 565-3433. A copy of the proposed consent decree may be obtained by mail from the Consent Decree Library, P.O. Box 7611, Washington, DC 20044. In requesting a copy please refer to the referenced case and enclose a check in the amount of $26.50 (25 cents per page reproduction costs), payable to the Consent Decree Library.

Ronald Gluck,
Assistant Section Chief, Environmental Enforcement Section, Environment and Natural Resources Division.

[FR Doc. 01-9908 Filed 4-20-01; 8:45 am]

BILLING CODE 4410-15-M